FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 16, 2017.

A. Federal Reserve Bank of Richmond (Adam M. Drimer, Assistant Vice President) 701 East Byrd Street, Richmond, Virginia 23261-4528. Comments can also be sent electronically to or Comments.applications@rich.frb.org:

1. Basswood Capital Management, LLC, New York, New York; Basswood Partners, LLC, New York, New York; Basswood Opportunity Partners, LP, New York, New York; Basswood Opportunity Fund, Inc., New York, New York; Basswood Financial Fund, LP, New York, New York; Basswood Financial Fund, Inc., New York, New York; Basswood Financial Long Only Fund, LP, New York, New York; MGS Partners, LLC, New York, New York; and Bennett Lindenbaum and Matthew Lindenbaum, as Managing Members of Basswood Partners, LLC, and of Basswood Capital Management, LLC; all of New York, New York; to acquire voting shares of Delmarva Bancshares, Inc., Cambridge, Maryland, and thereby indirectly acquire 1880 Bank, Cambridge, Maryland.

B. Federal Reserve Bank of Chicago (Colette A. Fried, Assistant Vice President) 230 South LaSalle Street, Chicago, Illinois 60690-1414:

1. GGC, LLP, Council Bluffs, Iowa; to acquire 10 percent or more of the voting shares of TS Contrarian Bancshares, Inc., Treynor, Iowa and thereby indirectly acquire voting shares of Bank of Tioga, Tioga, North Dakota.

Board of Governors of the Federal Reserve System, July 27, 2017.
Yao-Chin Chao,
Assistant Secretary of the Board.

[FR Doc. 2017-16167 Filed 7-31-17; 8:45 am]

BILLING CODE 6210-01-P